DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer at (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: Ryan White HIV/AIDS Treatment Extension Act of 2009: Program Allocation and Expenditure Forms (OMB No. 0915-0318)—Extension

The Ryan White HIV/AIDS Program Allocation and Expenditure Reports will enable the Health Resources and Services Administration's (HRSA) HIV/AIDS Bureau to track spending requirements for each program as outlined in the 2009 legislation. Grantees funded under Parts A, B, C, and D of the Ryan White HIV/AIDS Program (codified under Title XXVI of the Public Health Service Act) would be required to report financial data to HRSA at the beginning and end of the grant cycle.

All Parts of the Ryan White HIV/AIDS Program specify HRSA's responsibilities in the administration of grant funds. Accurate allocation and expenditure records of the grantees receiving Ryan White HIV/AIDS Program funding are critical to the implementation of the legislation and thus are necessary for HRSA to fulfill its responsibilities.

The forms would continue to require grantees to report on how funds are allocated and spent on core and non-core services, and on various program components, such as administration, planning and evaluation, and quality management. The two forms are identical in the types of information that are collected. However, the first report would track the allocation of the award at the beginning of the grant cycle and the second report would track actual expenditures (including carryover dollars) at the end of the grant cycle.

The primary purposes of these forms are to (1) provide information on the number of grant dollars spent on various services and program components, and (2) oversee compliance with the intent of Congressional appropriations in a timely manner. In addition to meeting the goal of accountability to the Congress, clients, advocacy groups, and the general public, information collected on these reports is critical for HRSA, State, and local grantees, and individual providers to evaluate the effectiveness of these programs. The annual estimate of burden is as follows:

Program under which grantee is funded | Number of grantee respondents | Responses per grantee | Total responses | Hours to complete each form | Total burden hours
Part A | 56 | 2 | 112 | 8 | 896
Part B | 59 | 2 | 118 | 12 | 1416
Part A MAI | 56 | 2 | 112 | 4 | 448
Part B MAI | 59 | 2 | 118 | 4 | 472
Part C | 361 | 2 | 722 | 7 | 5054
Part D | 90 | 2 | 180 | 7 | 1260
Total | 681 |  | 1,362 |  | 9,546

E-mail comments to paperwork@hrsa.gov or mail the HRSA Reports Clearance Officer, Room 10-33, Parklawn Building, 5600 Fishers Lane, Rockville, Maryland 20857. Written comments should be received within 60 days of this Notice.

Dated: October 21, 2010.
Robert Hendricks,
Director, Division of Policy and Information Coordination.

[FR Doc. 2010-27286 Filed 10-27-10; 8:45 am]

BILLING CODE 4165-15-P